DEPARTMENT OF ENERGY

Federal Energy Regulatory Commission

Combined Notice of Filings #1

Take notice that the Commission received the following exempt wholesale generator filings:

Docket Numbers: EG15-36-000.

Applicants: Old Mill Solar, LLC.

Description: Self-Certification of EWG of Old Mill Solar, LLC.

Filed Date: 1/5/15.

Accession Number: 20150105-5185.

Comments Due: 5 p.m. ET 1/26/15.

Take notice that the Commission received the following electric rate filings:

Docket Numbers: ER14-1095-001.

Applicants: Southern California Edison Company.

Description: Compliance filing per 35: Compliance Filing CalWind Revised GIA to be effective 12/15/2013.

Filed Date: 1/6/15.

Accession Number: 20150106-5096.

Comments Due: 5 p.m. ET 1/27/15.

Docket Numbers: ER14-1969-004.

Applicants: Public Service Company of Colorado.

Description: Compliance filing per 35: 2015-1-5_PSCo Wind Int Comp Filing_ER14-1969 to be effective 1/1/2015.

Filed Date: 1/5/15.

Accession Number: 20150105-5147.

Comments Due: 5 p.m. ET 1/26/15.

Docket Numbers: ER15-822-000.

Applicants: Southern California Edison Company.

Description: § 205(d) rate filing per 35.13(a)(2)(iii): Service Agmt for Wholesale Distribution Service with Morgan Lancaster I, LLC to be effective 3/8/2015.

Filed Date: 1/6/15.

Accession Number: 20150106-5002.

Comments Due: 5 p.m. ET 1/27/15.

Docket Numbers: ER15-823-000.

Applicants: Southern California Edison Company.

Description: § 205(d) rate filing per 35.13(a)(2)(iii): Service Agmts Wholesale Distribution Service—Summer Solar E2, F2, G2, H2 to be effective 3/8/2015.

Filed Date: 1/6/15.

Accession Number: 20150106-5003.

Comments Due: 5 p.m. ET 1/27/15.

Docket Numbers: ER15-824-000.

Applicants: Midcontinent Independent System Operator, Inc.

Description: § 205(d) rate filing per 35.13(a)(2)(iii): 2015-01-06_SA 2694_ITC-Oregon Clean Energy Amended Y1-069 to be effective 1/7/2015.

Filed Date: 1/6/15.

Accession Number: 20150106-5047.

Comments Due: 5 p.m. ET 1/27/15.

Take notice that the Commission received the following public utility holding company filings:

Docket Numbers: PH15-6-000.

Applicants: Sempra Energy.

Description: Sempra Energy submits FERC 65-B Waiver Notice of Change in Facts.

Filed Date: 1/6/15.

Accession Number: 20150106-5118.

Comments Due: 5 p.m. ET 1/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2015.
Nathaniel J. Davis, Sr.,
Deputy Secretary.

[FR Doc. 2015-00383 Filed 1-13-15; 8:45 am]

BILLING CODE 6717-01-P